DEPARTMENT OF DEFENSE

Department of the Army, Corps of Engineers

Intent To Prepare a Draft Supplemental Environmental Impact Statement To Support the Decision Document for Channel Widening Found in the Original Project Report and Environmental Impact Statement for the Expansion of Shipping Channels and Approaches to the Baltimore Harbor in Chesapeake Bay Maryland and Virginia

AGENCY: Department of the Army, U.S. Army Corps of Engineers, DoD.

ACTION: Notice of Intent.

SUMMARY: In accordance with the National Environmental Policy Act (NEPA), the U.S. Army Corps of Engineers, Baltimore District (USACE) and the non-Federal sponsor, the Maryland Port Administration (MPA), are intending to prepare a decision document and supporting Supplemental Environmental Impact Statement (SEIS) to execute Phase II of the Baltimore Harbor and Channels 50-Foot project to complete the construction of the project channels to their authorized widths and consider reformulation of the plan to develop new alternatives.

Because of the lapse in time since the authorization of the original project report and EIS in 1981 and the completion of Phase I in 1990, the intention of the new decision document and SEIS is to consider whether widening the existing project channels to the authorized widths for Phase II is still in the federal Interest and to allow for reformulation of the plan for Phase II, as appropriate, to develop new alternatives.

FOR FURTHER INFORMATION CONTACT: For questions, comments, further information or to be placed on the project information distribution list, please contact: Ms. Robin Armetta, U.S. Army Corps of Engineers, Baltimore District, 10 S. Howard Street, Planning Division, Baltimore, MD 21201, (410) 962-6100, Robin.E.Armetta@usace.army.mil or baltimoreharborproject@usace.army.mil. Please contact Ms. Armetta if you wish to speak at the meetings or should you have special needs (sign language interpreters, access needs) at the above address.

SUPPLEMENTARY INFORMATION: The Baltimore Harbor and Channels 50-Foot project is a single purpose deep draft navigation project located in the Maryland and Virginia waters of the Chesapeake Bay and Patapsco River. The project was originally authorized by Section 101 of the River and Harbor Act of 1970 (Pub. L. 91-611), on December 31, 1970 as amended by Section 909 of the Water Resources Development Act (WRDA) of 1986, and recommended for phased construction in 1985 via a supplement to a 1981 General Design Memorandum (GDM). The 1985 Supplement recommended a phased implementation to “hasten commencement” of the project, with the second phase being implemented “at a future date to be determined.”

Phase I of project implementation provided a 50-foot deep main shipping channel from the Virginia Capes to Fort McHenry in Baltimore Harbor. In addition, the project includes the Curtis Bay Channel, the East Channel, and the West Channel, which are dredged to depths of 50 feet, 49 feet, and 40 feet, respectively, with all three channels authorized to a width of 600 feet. Due to financial and dredged material placement capacity constraints at the time, several channel components of the 50-foot project were not constructed to the authorized widths during Phase I. Two of the three 1000-foot wide Virginia channels were only constructed to a width of 800 feet, the 800-foot wide Maryland channels were only constructed to 700 feet, and the 600-foot wide Curtis Bay Channel was only constructed to a width of 400 feet.

Need for Action: Since completion of Phase I in 1990, the maritime industry has continued to utilize increasingly larger vessels to make port calls in Baltimore Harbor. The current channels were designed for dry bulk and tanker ships of up to 150,000 Deadweight Tonnes (DWT), which corresponds to beam widths of about 145 feet and draft depths up to 50 feet. While ships may have a draft of up to 50 feet, the channels are designed to accommodate 5 feet under keel clearance; therefore vessels generally draft less than 50 feet. The current channel dimensions are generally adequate for today's vessel traffic, but the vessel pilots and shipping companies are concerned that the narrow channel widths are beginning to negatively impact shipping efficiency. Currently, deeper and wider vessels sometimes experience conditions that have the potential for safety issues when passing other ships in the narrow channels, which results in time delays and increased shipping costs. Furthermore, in 2016 when the Panama Canal improvements are scheduled to be completed, large ships requiring 50-foot channels and with beam widths of 160 feet will experience similar shipping delays when making calls in the Port of Baltimore if the channels remain at the current dimensions. Currently, Baltimore is one of two East Coast ports that can accommodate this ship size.

Scoping: The Corps is requesting written comments from federal, state, and local governments, industry, non-governmental organizations, and the general public on the need for action, the range of alternatives considered, and the potential impacts of the alternatives. Scoping comments will be accepted for 45 days from the date of this notice. Public scoping meetings are scheduled in Virginia and Maryland at two locations on the following dates: November 24, 2014, 7 p.m. at the Hampton Public (Main) Library, 4207 Victoria Blvd., Hampton, VA 23669 and November 19, 2014, 7 p.m. at the Riviera Beach Community Library—Anne Arundel County Public Library, 1130 Duvall Highway, Pasadena, MD 21122. For both the Virginia and Maryland meetings, a poster session will begin at 5 p.m., two hours prior to each meeting, where staff will be available to answer questions. All interested parties are invited to speak at the public meetings.

Estimated date of the Draft SEIS and Planning Report: Spring 2016.

Daniel M. Bierly,
Chief, Civil Project Development Branch, U.S. Army Corps of Engineers, Baltimore District.

[FR Doc. 2014-25290 Filed 10-22-14; 8:45 am]

BILLING CODE 3720-58-P